DEPARTMENT OF AGRICULTURE

Animal and Plant Health Inspection Service

[Docket No. APHIS-2012-0061]

Availability of an Environmental Assessment and Finding of No Significant Impact for the Field Release of Aphelinus glycinis for the Biological Control of the Soybean Aphid in the Continental United States

AGENCY: Animal and Plant Health Inspection Service, USDA.

ACTION: Notice.

SUMMARY: We are advising the public that the Animal and Plant Health Inspection Service has prepared an environmental assessment and finding of no significant impact relative to the release of Aphelinus glycinis for the biological control of soybean aphid, Aphis glycines, in the continental United States. Based on its finding of no significant impact, the Animal and Plant Health Inspection Service has determined that an environmental impact statement need not be prepared.

FOR FURTHER INFORMATION CONTACT: Dr. Shirley A. Wager-Page, Chief, Pest Permitting Branch, Registration, Identification, Permitting, and Plant Safeguarding, PPQ, APHIS, 4700 River Road Unit 134, Riverdale, MD 20737-1236; (301) 851-2323.

SUPPLEMENTARY INFORMATION:

Background

The soybean aphid, Aphis glycinis, which is native to Asia, was found in North America in 2000 and has since become a major pest in America. It infested 42 million acres alone in 2003, resulting in decreased soybean yields and greatly increased control costs. The soybean aphid has invaded most soybean production regions in North America, including numerous U.S. States and three Canadian Provinces.

The Animal and Plant Health Inspection Service (APHIS) is proposing to issue permits for the field release of the insect Aphelinus glycinis to reduce the severity of soybean damage from infestations of soybean aphid in the United States. Permitting the release of this parasite species is necessary to determine its impact on soybean aphid populations and its ability to survive in the target area.

On August 3, 2012, we published in the Federal Register (77 FR 46373, Docket No. APHIS-2012-0061) a notice ¹ in which we announced the availability, for public review and comment, of an environmental assessment (EA) that examined the potential environmental impacts associated with the proposed release of this biological control agent into the continental United States.

¹ To view the notice, EA, and FONSI go to http://www.regulations.gov/#!docketDetail;D=APHIS-2012-0061.

We solicited comments on the EA for 30 days ending September 4, 2012. We received one comment, from a private citizen. The commenter opposed the proposed action but did not offer a rationale or any information apart from that opposition.

In this document, we are advising the public of our finding of no significant impact (FONSI) regarding the release of Aphelinus glycinis into the continental United States for use as a biological control agent to reduce the severity of soybean aphid infestations. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1); and (4) APHIS' NEPA Implementing Procedures (7 CFR part 372).

Done in Washington, DC, this 28th day of February 2013.
Kevin Shea,
Acting Administrator, Animal and Plant Health Inspection Service.

[FR Doc. 2013-05140 Filed 3-5-13; 8:45 am]

BILLING CODE 3410-34-P